DEPARTMENT OF LABOR

Mine Safety and Health Administration

30 CFR Parts 18, 44, 46, 48, 49, 56, 57, 70, 71, 75 and 90

MSHA Headquarters Address Change

AGENCY: Mine Safety and Health Administration (MSHA), Labor.

ACTION: Final rule.

SUMMARY: The Mine Safety and Health Administration is amending its regulations to reflect changes to the address of the Headquarters office. MSHA is relocating its Headquarters offices and these amendments to the regulations are necessary to inform the public of MSHA's new address.

EFFECTIVE DATE: June 10, 2002.

ADDRESSES: This final rule is available on MSHA's internet site, http://www.msha.gov, at the “Statutory and Regulatory Information” icon.

FOR FURTHER INFORMATION CONTACT: Marvin W. Nichols, Jr., Director, Office of Standards, Regulations, and Variances, MSHA, 4015 Wilson Blvd., Room 627, Arlington, Virginia 22203-1984, Nichols-Marvin@msha.gov, (703) 235-1910 (telephone) or (703) 235-5551 (facsimile) before June 10, 2002 and 1100 Wilson Blvd., Room 2352, Arlington, Virginia 22209-3939, (202) 693-9440 (telephone), (202) 693-9441 (facsimile) thereafter.

SUPPLEMENTARY INFORMATION:

A. Background

On June 10, 2002, MSHA will move its Headquarters office from 4015 Wilson Blvd., Arlington, Virginia 22203-1984 to 1100 Wilson Blvd., Arlington, Virginia 22209-3939.

Because this amendment deals with agency management and procedures, the notice and comment provisions of the Administrative Procedure Act do not apply pursuant to 5 USC 553(a)(2) and (b)(3)(A).

Good cause exists to dispense with the usual 30-day delay in the effective date because the amendments are of a minor and administrative nature dealing with a change in address.

B. Paperwork Reduction Act Statement

This final rule does not contain a new or amended information collection requirement subject to the Paperwork Reduction Act of 1995 (44 U.S.C. 3501 et seq.).

C. Executive Order 12866 Regulatory Planning and Review

This final rule is not a “regulatory action” under section 3 of Executive Order 12866, and has not been reviewed by the Office of Management and Budget. The rule is an administrative action that changes the address of a Federal agency. Because the rule is limited to agency organization, management and personnel, it falls within the exclusion set forth in section 3(d)(3) of the Executive Order.

In promulgating this rule, the Agency has adhered to the regulatory philosophy and applicable principles of regulation set forth in section 1 of the Executive Order.

D. Unfunded Mandates Reform Act

For purposes of the Unfunded Mandates Reform Act of 1995, this rule does not include any Federal mandate that may result in increased expenditures by State, local or tribal governments, or by the private sector.

Accordingly, Chapter I of Title 30 of the Code of Federal Regulations is amended as follows:

PART 18—ELECTRIC MOTOR-DRIVEN MINE EQUIPMENT AND ACCESSORIES

1. The authority citation for part 18 continues to read as follows:

Authority: 30 U.S.C. 957 and 961.

§ 18.82 [Amended]

2. In § 18.82(a), the address for the Assistant Secretary of Labor for Mine Safety and Health is revised to read “1100 Wilson Blvd., Room 2322, Arlington, Virginia 22209-3939.”

PART 44—RULES OF PRACTICE FOR PETITIONS FOR MODIFICATION OF MANDATORY SAFETY STANDARDS

3. The authority citation for part 44 continues to read as follows:

Authority: 30 U.S.C. 957.

§ 44.10 [Amended]

4. In § 44.10, the address for the Office of Standards, Regulations and Variances is revised to read “1100 Wilson Blvd., Room 2352, Arlington, Virginia 22209-3939.”

§ 44.21 [Amended]

5. In § 44.21(a), the address for the Assistant Secretary of Labor for Mine Safety and Health is revised to read “1100 Wilson Blvd., Room 2322, Arlington, Virginia 22209-3939.”

PART 46—TRAINING AND RETRAINING OF MINERS ENGAGED IN SHELL DREDGING, OR EMPLOYED AT SAND, GRAVEL, SURFACE STONE, SURFACE CLAY, COLLOIDAL PHOSPHATE, OR SURFACE LIMESTONE MINES.

6. The authority citation for part 46 continues to read as follows:

Authority: 30 U.S.C. 811, 825.

§ 46.2 [Amended]

7. In § 46.2(d)(1)(iii), the address for the Office of Standards, Regulations and Variances is revised to read “1100 Wilson Blvd., Room 2352, Arlington, Virginia 22209-3939.”

§ 46.3 [Amended]

8. In § 46.3(h), the address for the Office of Educational Policy and Development is revised to read “1100 Wilson Blvd., Room 2100, Arlington, Virginia 22209-3939.”

PART 48—TRAINING AND RETRAINING OF MINERS

9. The authority citation for part 48 continues to read as follows:

Authority: 30 U.S.C. 811, 825.

§ 48.3 [Amended]

10. In § 48.3(i), the addresses for the Administrator for MSHA Coal Mine Safety and Health and the Administrator for Metal and Non-metal Safety and Health are revised to read “1100 Wilson Blvd., Room 2424 (Coal) or Room 2436 (Metal and Nonmetal), Arlington, Virginia 22209-3939.”

§ 48.23 [Amended]

11-12. In § 48.23(i), the addresses for the Administrator for Coal Mine Safety and Health and the Administrator for Metal and Non-metal Safety and Health are revised to read “1100 Wilson Blvd., Room 2424 (Coal) or Room 2436 (Metal and Nonmetal), Arlington, Virginia 22209-3939.”

§ 48.32 [Amended]

13. In § 48.32(a), the addresses for the Administrator for Coal Mine Safety and Health and the Administrator for Metal and Non-metal Safety and Health are revised to read “1100 Wilson Blvd., Room 2424 (Coal) or Room 2436 (Metal and Nonmetal), Arlington, Virginia 22209-3939.”

PART 49—MINE RESCUE TEAMS

14. The authority citation for part 49 continues to read as follows:

Authority: 30 U.S.C. 811, 825(e), 957.

§ 49.3 [Amended]

15. In § 49.3(h)(2), the addresses for the Administrator for Coal Mine Safety and Health and the Administrator for Metal and Nonmetal Mine Safety and Health are revised to read “1100 Wilson Blvd., Room 2424 (Coal) or Room 2436 (Metal and Nonmetal), Arlington, Virginia 22209-3939.”

§ 49.4 [Amended]

16. In § 49.4(i)(2), the addresses for the Administrator for Coal Mine Safety and Health and the Administrator for Metal and Nonmetal Mine Safety and Health are revised to read “1100 Wilson Blvd., Room 2424 (Coal) or Room 2436 (Metal and Nonmetal), Arlington, Virginia 22209-3939.”

§ 49.8 [Amended]

17. In § 49.8(e), the addresses for the Administrator for Coal Mine Safety and Health and the Administrator for Metal and Nonmetal Mine Safety and Health are revised to read “1100 Wilson Blvd., Room 2424 (Coal) or Room 2436 (Metal and Nonmetal), Arlington, Virginia 22209-3939.”

PART 56—SAFETY AND HEALTH STANDARDS—SURFACE METAL AND NONMETAL MINES

18. The authority citation for part 56 continues to read as follows:

Authority: 30 U.S.C. 811.

§ 56.6000 [Amended]

19. In § 56.6000, in the definition for laminated partition, the address for MSHA is revised to read “1100 Wilson Blvd., Room 2436, Arlington, Virginia 22209-3939.”

§ 56.6133 [Amended]

20. In § 56.6133(b), the address for MSHA is revised to read “1100 Wilson Blvd., Room 2436, Arlington, Virginia 22209-3939.”

§ 56.6201 [Amended]

21. In § 56.6201(a)(2), the address for MSHA is revised to read “1100 Wilson Blvd., Room 2436, Arlington, Virginia 22209-3939.”

22. In § 56.6201(b)(2), the address for MSHA is revised to read “1100 Wilson Blvd., Room 2436, Arlington, Virginia 22209-3939.”

§ 56.14130 [Amended]

23. In § 56.14130(j), the address for the Administrator for Metal and Nonmetal Mine Safety and Health is revised to read “1100 Wilson Blvd., Room 2436, Arlington, Virginia 22209-3939.”

§ 56.14131 [Amended]

24. In § 56.14131(d), the address for the Administrator for Metal and Nonmetal Mine Safety and Health is revised to read “1100 Wilson Blvd., Room 2436, Arlington, Virginia 22209-3939.”

PART 57—SAFETY AND HEALTH STANDARDS—UNDERGROUND METAL AND NONMETAL MINES

25. The authority citation for part 57 continues to read as follows:

Authority: 30 U.S.C. 811.

§ 57.6000 [Amended]

26. In § 57.6000, in the definition for laminated partition, the address for MSHA is revised to read “1100 Wilson Blvd., Room 2436, Arlington, Virginia 22209-3939.”

§ 57.6133 [Amended]

27. In § 57.6133(b), the address for MSHA is revised to read “1100 Wilson Blvd., Room 2436, Arlington, Virginia 22209-3939.”

§ 57.6201 [Amended]

28. In § 57.6201(a)(2), the address for MSHA is revised to read “1100 Wilson Blvd., Room 2436, Arlington, Virginia 22209-3939.”

29. In § 57.6201(b)(2), the address for MSHA is revised to read “1100 Wilson Blvd., Room 2436, Arlington, Virginia 22209-3939.”

§ 57.14130 [Amended]

30. In § 57.14130(j), the address for the Administrator for Metal and Nonmetal Mine Safety and Health is revised to read “1100 Wilson Blvd., Room 2436, Arlington, Virginia 22209-3939.”

§ 57.14131 [Amended]

31. In § 57.14131(d), the address for the Administrator for Metal and Nonmetal Mine Safety and Health is revised to read “1100 Wilson Blvd., Room 2436, Arlington, Virginia 22209-3939.”

§ 57.22005 [Amended]

32. In § 57.22005(b), the address for the Assistant Secretary of Labor for Mine Safety and Health is revised to read “1100 Wilson Blvd., Room 2322, Arlington, Virginia 22209-3939.”

PART 70—MANDATORY HEALTH STANDARDS—UNDERGROUND COAL MINES

33. The authority citation for part 70 continues to read as follows:

Authority: 30 U.S.C. 811 and 813(h).

§ 70.204 [Amended]

34. In § 70.204(e), the address for MSHA Coal Mine Safety and Health is revised to read “1100 Wilson Blvd., Room 2424, Arlington, Virginia 22209-3939.”

§ 70.1900 [Amended]

35. In § 70.1900(c), the address for the Office of Standards, Regulations and Variances is revised to read “1100 Wilson Blvd., Room 2352, Arlington, Virginia 22209-3939.”

PART 71—MANDATORY HEALTH STANDARDS—SURFACE COAL MINES AND SURFACE WORK AREAS OF UNDERGROUND COAL MINES

36. The authority citation for part 71 continues to read as follows:

Authority: 30 U.S.C. 811, 951, 957.

§ 71.204 [Amended]

37. In § 71.204(e), the address for MSHA Coal Mine Safety and Health is revised to read “1100 Wilson Blvd., Room 2424, Arlington, Virginia 22209-3939.”

§ 71.402 [Amended]

38. In § 71.402(b), the address for MSHA is revised to read “1100 Wilson Blvd., Room 2424, Arlington, Virginia 22209-3939.”

§ 71.500 [Amended]

39. In § 71.500(c), the address for the Health Division of MSHA Coal Mine Safety and Health is revised to read “1100 Wilson Blvd., Room 2416, Arlington, Virginia 22209-3939.”

§ 71.700 [Amended]

40. In § 71.700(a), the address for MSHA is revised to read “1100 Wilson Blvd., Room 2424, Arlington, Virginia 22209-3939.”

PART 72—HEALTH STANDARDS FOR COAL MINES

41. The authority citation for Part 72 continues to read as follows:

Authority: 30 U.S.C. 811, 813(h), 957, 961.

§ 72.710 [Amended]

42. In § 72.710, the address for the Office of Standards, Regulations and Variances is revised to read “1100 Wilson Blvd., Room 2352, Arlington, Virginia 22209-3939.”

PART 75—MANDATORY SAFETY STANDARDS—UNDERGROUND COAL MINES

43. The authority citation for Part 75 continues to read as follows:

Authority: 30 U.S.C. 811.

§ 75.301 [Amended]

44. In § 75.301, in the definitions of noncombustible structure or area and noncombustible material, the address for the Office of Standards, Regulations and Variances is revised to read “1100 Wilson Blvd., Room 2352, Arlington, Virginia 22209-3939.”

§ 75.322 [Amended]

45. In § 75.322, the address for MSHA is revised to read “1100 Wilson Blvd., Room 2424, Arlington, Virginia 22209-3939.”

§ 75.333 [Amended]

46. In § 75.333(d)(1), the address for the Office of Standards, Regulations and Variances is revised to read “1100 Wilson Blvd., Room 2352, Arlington, Virginia 22209-3939.”

47. In § 75.333(e)(1)(i), the address for the Office of Standards, Regulations and Variances is revised to read “1100 Wilson Blvd., Room 2352, Arlington, Virginia 22209-3939.”

48. In § 75.333(e)(3), the address for the Office of Standards, Regulations and Variances is revised to read “1100 Wilson Blvd., Room 2352, Arlington, Virginia 22209-3939.”

49. In § 75.333(f), the address for the Office of Standards, Regulations and Variances is revised to read “1100 Wilson Blvd., Room 2352, Arlington, Virginia 22209-3939.”

§ 75.335 [Amended]

50. In § 75.335(a)(1)(iv), the address for the Office of Standards, Regulations and Variances is revised to read “1100 Wilson Blvd., Room 2352, Arlington, Virginia 22209-3939.”

51. In § 75.335(a)(2), the address for the Office of Standards, Regulations and Variances is revised to read “1100 Wilson Blvd., Room 2352, Arlington, Virginia 22209-3939.”

§ 75.523 [Amended]

52. In § 75.523-1(c), the address for the Office of Technical Support is revised to read “1100 Wilson Blvd., Room 2329, Arlington, Virginia 22209-3939.”

§ 75.818 [Amended]

53. In § 75.818(b)(4), the address for the Office of Standards, Regulations and Variances is revised to read “1100 Wilson Blvd., Room 2352, Arlington, Virginia 22209-3939.”

§ 75.1710-1 [Amended]

54. In § 75.1710-1(f), the address for the Office of Technical Support is revised to read “1100 Wilson Blvd., Room 2329, Arlington, Virginia 22209-3939.”

§ 75.1712-6 [Amended]

55. In § 75.1712-6(c), the address for the Health Division of MSHA Coal Mine Safety and Health is revised to read “1100 Wilson Blvd., Room 2416, Arlington, Virginia 22209-3939.”

§ 75.1900 [Amended]

56. In § 75.1900, in the definition of Noncombustible Material, the address for the Office of Standards, Regulations and Variances is revised to read “1100 Wilson Blvd., Room 2352, Arlington, Virginia 22209-3939.”

PART 90—MANDATORY HEALTH STANDARDS—COAL MINERS WHO HAVE EVIDENCE OF PNEUMOCONIOSIS

57. The authority citation for Part 90 continues to read as follows:

Authority: 30 U.S.C. 811 and 813(h).

§ 90.3 [Amended]

58. In § 90.3(d), the address for the Health Division of MSHA Coal Mine Safety and Health is revised to read “1100 Wilson Blvd., Room 2416, Arlington, Virginia 22209-3939.”

59. In § 90.3(e), the address for the Health Division of MSHA Coal Mine Safety and Health is revised to read “1100 Wilson Blvd., Room 2416, Arlington, Virginia 22209-3939.”

§ 90.204 [Amended]

60. In § 90.204(e), the address for MSHA Coal Mine Safety and Health is revised to read “1100 Wilson Blvd., Room 2424, Arlington, Virginia 22209-3939.”

Signed at Arlington, VA, this 28th day of May 2002.
John R. Caylor,
Deputy Assistant Secretary of Labor for Mine Safety and Health.

[FR Doc. 02-13906 Filed 6-3-02; 8:45 am]

BILLING CODE 4310-43-P